DEPARTMENT OF JUSTICE

Bureau of Alcohol, Tobacco, Firearms and Explosives

[Docket No. ATF 15N; ATF O 1156.3]

Delegation Order—Authority To Issue Reimbursable Work Authorizations

1. Purpose. This order delegates authority for issuing General Services Administration (GSA) Form 2957, Reimbursable Work Authorizations, when required for alterations, renovations, repairs or services to real property occupied by the Bureau of Alcohol, Tobacco, Firearms and Explosives (ATF).

2. Cancellation. This order cancels ATF O 1100.139A, Delegation Order—Authority To Issue Reimbursable Work Authorizations, dated 8/13/1991.

3. Delegations.

a. Under the authority vested in the Director, Bureau of Alcohol, Tobacco, Firearms and Explosives, by Department of Justice Final Rule [AG Order No. 2650-2003] as published in the Federal Register on January 31, 2003, and by title 28 CFR 0.130 and 0.131, I hereby delegate the authority for issuing reimbursable work authorizations to GSA when required for alterations, renovations, repairs or services to real property occupied by ATF to:

(1) Assistant Director (Management)/CFO.

(2) Chief, Administrative Programs Division.

(3) Chief, Space Management Branch.

b. The authority delegated herein may not be redelegated.

4. Questions. Questions regarding this order should be addressed to the Chief, Space Management Branch at 202-927-8840.

Dated: December 21, 2004.
Carl J. Truscott,
Director.

[FR Doc. 05-517 Filed 1-10-05; 8:45 am]

BILLING CODE 4410-FY-P